ENVIRONMENTAL PROTECTION AGENCY

[ER-FRL-9038-8]

Environmental Impact Statements; Notice of Availability

Responsible Agency: Office of Federal Activities, General Information (202) 564-7156 or https://www2.epa.gov/nepa.

Weekly receipt of Environmental Impact Statements

Filed 04/16/2018 Through 04/20/2018

Pursuant to 40 CFR 1506.9

Notice

Section 309(a) of the Clean Air Act requires that EPA make public its comments on EISs issued by other Federal agencies. EPA's comment letters on EISs are available at: https://cdxnodengn.epa.gov/cdx-nepa-public/action/eis/search.

EIS No. 20180067, Final, USACE, AK, Donlin Gold Project, Review Period Ends: 05/29/2018, Contact: Jamie R. Hyslop 907-753-2670.

EIS No. 20180068, Draft, APHIS, PRO, Fruit Fly Cooperative Control Program, Comment Period Ends: 06/11/2018, Contact: Jim E. Warren Ph.D., 202-316-3216.

EIS No. 20180069, Draft, NPS, ME, Acadia National Park Draft Transportation Plan and Environmental Impact Statement, Comment Period Ends: 06/26/2018, Contact: John Kelly 207-288-8703.

EIS No. 20180070, Draft, USFS, CA, Squaw Valley to Alpine Meadows Base to Base Gondola, Comment Period Ends: 06/11/2018, Contact: Joseph Flannery 530-587-3558.

EIS No. 20180071, Draft, NRC, TN, Environmental Impact Statement for an Early Site Permit (ESP) at the Clinch River Nuclear Site: Draft Report for Comment, Comment Period Ends: 07/13/2018, Contact: Patricia Vokoun, 301-415-3470.

EIS No. 20180072, Final, USFWS, AR, Yolo Habitat, Conservation Plan/Natural Community Conservation Plan EIS/EIR and Habitat Conservation Plan, Review Period Ends: 05/29/2018, Contact: Dan Cox 916-414-6539.

Amended Notice

Revision to the Federal Register Notice published 03/23/2018, extend comment period from 05/07/2018 to 05/29/2018.

EIS No. 20180045, Draft, NMFS, OR, Draft Environmental Impact Statement to Analyze Impacts of NOAA's National Marine Fisheries Service Proposed Approval of Hatchery and Genetic Management Plans for Spring Chinook Salmon, Steelhead, and Rainbow Trout in the Upper Willamette River Basin Pursuant to Section 4(d) of the Endangered Species Act, Contact: Lance Kruzic, 541-957-3381.

Dated: April 24, 2018.
Kelly Knight,
Director, NEPA Compliance Division, Office of Federal Activities.

[FR Doc. 2018-08864 Filed 4-26-18; 8:45 am]

BILLING CODE 6560-50-P